DEPARTMENT OF ENERGY

Federal Energy Regulatory Commission

[Docket No. RP00-260-000]

Texas Gas Transmission Corporation; Notice of Settlement Conference

October 24, 2000.

Take notice that an informal settlement conference will be convened in this proceeding on Wednesday, November 1 and possibly continuing to November 2, 2000 at 10 a.m., at the offices of the Federal Energy Regulatory Commission, 888 First Street, N.E., Washington, D.C. 20426, for the purpose of discussing the possible settlement of issues in the proceeding.

Any party, as defined by 18 CFR 385.102(c), or any participant as defined by 18 CFR 385.102(b), is invited to attend. Persons wishing to become a party must move to intervene and receive intervenor status pursuant to the Commission's regulations (18 CFR 385.214).

For additional information, contact William J. Collins at (202) 208-0248.

David P. Boergers,
Secretary.

[FR Doc. 00-27768 Filed 10-27-00; 8:45 am]

BILLING CODE 6717-01-M 195